DEPARTMENT OF THE INTERIOR

Fish and Wildlife Service

[FWS-R1-ES-2010-N040]

[10120-1112-0000-F2]

DEPARTMENT OF COMMERCE

National Oceanic and Atmospheric Administration

RIN 0648-XU69

Habitat Conservation Plan for City of Kent, Washington

AGENCY: Fish and Wildlife Service, Interior; National Marine Fisheries Service (NMFS), National Oceanic and Atmospheric Administration (NOAA), Commerce.

ACTION: Notice of Receipt of an Application for Incidental Take Permits; Notice of Availability of a Draft Environmental Impact Statement and Draft Habitat Conservation Plan, Including a Proposed Implementation Agreement for Public Comment.

SUMMARY: The City of Kent, Washington (Kent), has submitted applications to the National Marine Fisheries Service (NMFS) and U.S. Fish and Wildlife Service (FWS) (together, the Services, us) for Incidental Take Permits (Permit) under the Endangered Species Act of 1973, as amended (ESA). We jointly prepared a Draft Environmental Impact Statement (DEIS) to support permit-issuance decisions by each agency. As required by the ESA, Kent has also prepared a Habitat Conservation Plan (Plan) designed to minimize and mitigate any such take of endangered or threatened species. The Permit applications are related to water withdrawal and habitat enhancement measures on Rock Creek, tributary to the Cedar River, King County, Washington. The Permit and the Plan each have a proposed term of 50 years.

We request comments from the public on the DEIS, the proposed Plan, and the proposed Implementation Agreement (IA). All comments we receive will become part of the public record and will be available for review under the ESA.

DATES: We must receive any written comments on the DEIS, draft Plan, and draft IA no later than June 22, 2010.

ADDRESSES: Address all written comments to: Tim Romanski, U.S. Fish and Wildlife Service, 510 Desmond Drive SE, Suite 102, Lacey, WA 98503, facsimile (360) 753-9518; or John Stadler, National Marine Fisheries Service, 510 Desmond Drive SE, Suite 103, Lacey, WA 98503, facsimile (360) 753-9517. Alternatively, you may submit your comment by e-mail, to KentHCP.nwr@noaa.gov. In the subject line of the e-mail include the identifier “City of Kent, Clark Springs Water Supply HCP EIS.” Comments and materials we receive will be available for public inspection, by appointment, during normal business hours at the above addresses. To review the DEIS, the proposed Plan, and the proposed IA, see “Document Availability” under SUPPLEMENTARY INFORMATION.

FOR FURTHER INFORMATION CONTACT: Tim Romanski, U.S. Fish and Wildlife Service, 510 Desmond Drive SE, Suite 102, Lacey, WA 98503, facsimile (360) 753-9518; or John Stadler, National Marine Fisheries Service, 510 Desmond Drive SE, Suite 103, Lacey, WA 98503, facsimile (360) 753-9517.

SUPPLEMENTARY INFORMATION:

Statutory Authority

Section 9 of the ESA and its implementing Federal regulations prohibit the “taking” of a species listed as endangered or threatened. The term take is defined under the ESA to mean harass, harm, pursue, hunt, shoot, wound, kill trap, capture, or collect, or to attempt to engage in any such conduct. Harm is defined to include significant habitat modification or degradation where it actually kills or injures wildlife by significantly impairing essential behavioral patterns, including breeding, feeding, and sheltering. Harass is defined as an intentional or negligent act or omission which creates the likelihood of injury to wildlife by annoying it to such an extent as to significantly disrupt normal behavioral patterns including breeding, feeding, and sheltering.

We may issue permits, under limited circumstances, to allow the take of listed species incidental to, and not the purpose of, otherwise lawful activities. U.S. Fish and Wildlife Service regulations governing permits for endangered species are in 50 CFR 17.22 and regulations governing permits for threatened species are in 50 CFR 17.32. National Marine Fisheries Service regulations governing permits for threatened and endangered species are at 50 CFR 222.307.

Background

The Permit applications are related to the operation and maintenance of Kent's Clark Springs Water Supply System adjacent to Rock Creek, King County, Washington. The Clark Springs Water Supply System consists of a spring-fed infiltration gallery and three well pumps. This facility is located adjacent to Rock Creek 1.8 miles upstream of the creek's confluence with the Cedar River. The facility is surrounded by 320 acres of Kent-owned land that is geographically separated from the City of Kent. Covered activities can be summarized as follows:

• Diversions of ground and surface water under Kent's existing water rights via infiltration gallery, well pumps, and infrastructure;

• Operation and maintenance of Clark Springs Water Supply facilities;

• Maintenance of 320 acres of Kent-owned property as it relates to the protection of its water supply; and

• Operation and maintenance of a water augmentation system for the enhancement of instream flows.

The Permit applications Kent submitted to the Services address the potential take of three ESA-listed threatened species and six unlisted species that may be affected by Kent's water withdrawal activities at the Clark Springs facility in the Rock Creek Watershed. The listed species under FWS jurisdiction is the bull trout (Salvelinus confluentus), listed as threatened. Unlisted species under FWS jurisdiction include coastal cutthroat trout (Oncorhynchus clarki clarki), Pacific lamprey (Lampetra tridentatus), and river lamprey (L. ayresi). Listed species under NMFS jurisdiction are the Puget Sound Chinook salmon (O. tshawytscha) and Puget Sound steelhead trout (O. mykiss), both listed as threatened. Unlisted species under NMFS jurisdiction include coho salmon (O. kisutch), chum salmon (O. keta), and sockeye salmon (O. nerka).

We formally initiated an environmental review of the project through publication of a Notice of Intent to prepare an Environmental Impact Statement in the Federal Register on June 19, 2006 (71 FR 35286). That notice also announced a public scoping period during which interested parties were invited to provide written comments expressing their issues or concerns relating to the proposal, and to attend a public scoping meeting held in Kent, Washington.

Based on public scoping comments, we prepared a DEIS to analyze the effects of alternatives on the human environment. Alternative 2 in the DEIS is described as implementation of Kent's Plan, FWS issuance of a Permit for bull trout and other unlisted species, and NMFS issuance of a Permit for Chinook salmon, steelhead trout, and other unlisted species should they become listed in the future. The other alternative analyzed in the DEIS was Alternative 1, No-Action, under which Kent would continue operating the Clark Springs facility without benefit of incidental take coverage from the Services.

We provide this notice under ESA and NEPA regulations. We will evaluate the application, associated documents, and comments submitted thereon to determine whether the application meets the requirements of the ESA and NEPA. We will then prepare the Final Environmental Impact Statement (FEIS). Our decisions of whether to issue incidental take permits on the application will be made upon completion of the FEIS and the ESA determination.

Document Availability

The documents are available electronically on the World Wide Web at http://www.nwr.noaa.gov/Salmon-Habitat/Habitat-Conservation-Plans/HCPs-in-Process.cfm.

Documents are also available at the following public locations:

• Covington Library, 27100 164th Ave. SE, Covington, WA 98042;

• Maple Valley Library, 21844 SE 248th Street, Maple Valley, WA 98038-8582; and

• Kent Library, 212 2nd Avenue North Kent, WA 98032.

• City of Kent Engineering Counter, Centennial Center, Engineering 2nd Floor, 400 West Gowe Street, Kent, WA 98032.

Dated: April 19, 2010.
Angela Somma,
Chief, Endangered Species Division, Office of Protected Resources, National Marine Fisheries Service.

Dated: April 19, 2010.
Carolyn A. Bohan,
Acting Deputy Regional Director, U.S. Fish and Wildlife Service, Region 1, Portland, Oregon.

[FR Doc. 2010-9507 Filed 4-22-10; 8:45 am]

BILLING CODES 4310-55-S; 3510-22-S